DEPARTMENT OF ENERGY

Federal Energy Regulatory Commission

Combined Notice of Filings #1

Take notice that the Commission received the following electric rate filings:

Docket Numbers: ER12-525-001.

Applicants: PJM Interconnection, LLC.

Description: Metadata Filing for the eTariff Record “OA ELRP Market Settlements” to be effective 2/1/2012.

Filed Date: 1/31/12.

Accession Number: 20120131-5315.

Comments Due: 5 pm ET 2/21/12.

Docket Numbers: ER12-593-001.

Applicants: ITC Midwest LLC.

Description: Amendment Filing to be effective 2/13/2012.

Filed Date: 1/31/12.

Accession Number: 20120131-5305.

Comments Due: 5 pm ET 2/21/12.

Docket Numbers: ER12-953-000.

Applicants: ISO New England Inc., New England Power Pool Participants Committee.

Description: FCM Redesign Extension Filing to be effective 4/1/2012.

Filed Date: 1/31/12.

Accession Number: 20120131-5314.

Comments Due: 5 pm ET 2/21/12.

Docket Numbers: ER12-954-000.

Applicants: Calpine Mid Merit, LLC.

Description: Reactive Service Rate Filing to be effective 3/1/2012.

Filed Date: 1/31/12.

Accession Number: 20120131-5318.

Comments Due: 5 pm ET 2/21/12.

Docket Numbers: ER12-955-000.

Applicants: Pacific Gas and Electric Company.

Description: Energy 2001, Inc. SGIA to be effective 1/13/2012.

Filed Date: 1/31/12.

Accession Number: 20120131-5328.

Comments Due: 5 pm ET 2/21/12.

Docket Numbers: ER12-956-000.

Applicants: NSTAR Electric Company.

Description: MATEP (Colburn) Distribution Service Agreement to be effective 10/13/2010.

Filed Date: 1/31/12.

Accession Number: 20120131-5354.

Comments Due: 5 pm ET 2/21/12.

Docket Numbers: ER12-957-000.

Applicants: Pacific Gas and Electric Company.

Description: Notice of Cancellation of Energy 2001, Inc WDT SAs and GIA to be effective 1/13/2012.

Filed Date: 1/31/12.

Accession Number: 20120131-5355.

Comments Due: 5 pm ET 2/21/12.

Docket Numbers: ER12-958-000.

Applicants: Puget Sound Energy, Inc.

Description: BPA NOA for Sumas No. 627 to be effective 1/1/2012.

Filed Date: 1/31/12.

Accession Number: 20120131-5356.

Comments Due: 5 pm ET 2/21/12.

Docket Numbers: ER12-959-000.

Applicants: Southwest Power Pool, Inc.

Description: Tri-County Electric Cooperative, Inc. Incorporate Formula Rate Template to be effective 4/1/2012.

Filed Date: 2/1/12.

Accession Number: 20120201-5081.

Comments Due: 5 pm ET 2/22/12.

Docket Numbers: ER12-960-000.

Applicants: Southern California Edison Company.

Description: Amended SGIA WDAT SCE-SEPV 8 LLC SEPV 8 Project to be effective 4/2/2012.

Filed Date: 2/1/12.

Accession Number: 20120201-5116.

Comments Due: 5 pm ET 2/22/12.

Docket Numbers: ER12-961-000.

Applicants: Southern California Edison Company.

Description: Amended SGIA WDAT SCE-SEPV 1 LLC SEPV 1 Project to be effective 4/2/2012.

Filed Date: 2/1/12.

Accession Number: 20120201-5117.

Comments Due: 5 pm ET 2/22/12.

Take notice that the Commission received the following land acquisition reports:

Docket Numbers: LA11-3-000.

Applicants: Virginia Electric and Power Company, Dominion Energy Marketing, Inc., Dominion Nuclear Connecticut, Inc., Dominion Energy Kewaunee, Inc., Dominion Energy Brayton Point, Inc., Dominion Energy Manchester Street, Inc., Dominion Energy New England, Inc., Dominion Energy Salem Harbor, LLC, Dominion Retail, Inc., Elwood Energy, LLC, Fairless Energy, LLC, NedPower Mt. Storm, LLC,Kincaid Generation, LLC, State Line Energy, LLC, Fowler Ridge Wind Farm, LLC.

Description: Amended Land Acquisition Report of Dominion Resource Services, Inc. for 3rd Quarter 2011 under LA11-3.

Filed Date: 1/11/12.

Accession Number: 20120111-5232.

Comments Due: 5 pm ET 2/22/12.

The filings are accessible in the Commission's eLibrary system by clicking on the links or querying the docket number.

Any person desiring to intervene or protest in any of the above proceedings must file in accordance with Rules 211 and 214 of the Commission's Regulations (18 CFR 385.211 and 385.214) on or before 5 pm Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call 866 208-3676 (toll free). For TTY, call 202 502-8659.

Dated: February 01, 2012.
Nathaniel J. Davis, Sr.,
Deputy Secretary.

[FR Doc. 2012-2836 Filed 2-7-12; 8:45 am]

BILLING CODE 6717-01-P